FEDERAL COMMUNICATIONS COMMISSION

[Report No. AUC-00-31-D (Auction No. 31); DA 00-573]

747-762 and 777-792 MHz Band Auction Postponed Until June 7, 2000

AGENCY: Federal Communications Commission.

ACTION: Notice.

SUMMARY: This document postpones the upcoming auction originally scheduled to begin May 10, 2000, in order to provide additional time for bidder preparation and planning. The auction is rescheduled to begin June 7, 2000.

DATES: Auction No. 31 will begin June 7, 2000.

FOR FURTHER INFORMATION CONTACT: Howard Davenport, Auctions and Industry Analysis Division, at (202) 418-0660 or Kathy Garland, Auction Operations at (717) 338-2801.

SUPPLEMENTARY INFORMATION: This is a summary of a Public Notice released March 17, 2000. The complete text of the public notice is available for inspection and copying during normal business hours in the FCC Reference Center (Room CY-A257), 445 12th Street, SW, Washington, D.C. 20554. It may also be purchased from the Commission's copy contractor, International Transcription Services, Inc. (ITS, Inc.) 1231 20th Street, NW, Washington, D.C. 20036, (202) 857-3800. It is also available on the Commission's web site at http://www.fcc.gov.

1. The upcoming auction of licenses in the 747-762 and 777-792 MHz band, originally scheduled to begin on May 10, 2000, is postponed until June 7, 2000, in order to provide additional time for bidder preparation and planning. See Auction No. 31 Public Notice, 65 FR 12251 (March 8, 2000). Except for the dates listed below, the information provided in previous public notices remains unchanged. The new schedule is as follows:

Seminar Date: April 24, 2000

FCC Form 175 Filing Deadline: May 8, 2000

Upfront Payments: May 22, 2000

Mock Auction: June 2, 2000

Auction Begins: June 7, 2000

Federal Communications Commission.
Louis J. Sigalos,
Deputy Chief, Auctions & Industry Analysis Division.

[FR Doc. 00-7424 Filed 3-24-00; 8:45 am]

BILLING CODE 6712-01-P